ENVIRONMENTAL PROTECTION AGENCY

[EPA-HQ-OAR-2020-0670; FRL-12803-01-OMS]

Agency Information Collection Activities; Submission to the Office of Management and Budget for Review and Approval; Comment Request; NSPS for Oil and Natural Gas Production and Natural Gas Transmission and Distribution (Renewal)

AGENCY: Environmental Protection Agency (EPA).

ACTION: Notice.

SUMMARY: The Environmental Protection Agency (EPA) has submitted an information collection request (ICR), NSPS for Oil and Natural Gas Production and Natural Gas Transmission and Distribution (EPA ICR Number 2437.06, OMB Control Number 2060-0673) to the Office of Management and Budget (OMB) for review and approval in accordance with the Paperwork Reduction Act. This is a proposed extension of the ICR, which is currently approved through November 30, 2025. Public comments were previously requested via the Federal Register on August 6, 2024 during a 60-day comment period. This notice allows for an additional 30 days for public comments.

DATES: Comments may be submitted on or before December 18, 2025.

ADDRESSES: Submit your comments, referencing Docket ID Number EPA-HQ-OAR-2020-0670, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through November 30, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for the regulations published at 40 CFR part 60, subpart OOOO were proposed on August 23, 2011, promulgated on August 16, 2012, and most recently amended on March 8, 2024. These regulations apply to oil and natural gas facilities that commence construction, modification or reconstruction after August 23, 2011, and on or before September 19, 2015, that are involved in the extraction and production of oil and natural gas, as well as the processing, transmission, and distribution of natural gas. Facilities that commenced construction, modification, or reconstruction after September 18, 2015 and on or before December 6, 2022 are subject to 40 CFR 60, Subpart OOOOa. Facilities that commence construction, modification, or reconstruction after December 6, 2022 are subject to 40 CFR 60, Subpart OOOOb. This information is being collected to assure compliance with 40 CFR part 60, subpart OOOO.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form Numbers: None.

Respondents/affected entities: Oil and natural gas facilities.

Respondent's obligation to respond: Mandatory (40 CFR part 60, subpart OOOO).

Estimated number of respondents: 417 (total).

Frequency of response: Semiannually, annually.

Total estimated burden: 54,300 hours (per year). Burden is defined at 5 CFR 1320.03(b).

Total estimated cost: $11,000,000 (per year), which includes $3,590,000 annualized capital or operation & maintenance costs.

Changes in the Estimates: The change in burden from the most recently approved ICR is due to adjustments. The adjustment decrease in burden from the most recently approved ICR is due to a decrease in the number of existing sources and a growth rate of zero new sources. The decrease in the number of respondents also resulted in a decrease in labor costs, which was offset slightly by the use of updated labor rates. This ICR uses labor rates from the most recent Bureau of Labor Statistics report (December 2023) to calculate respondent burden costs. There is an increase in Capital O&M costs, which is due to the use of updated labor rates and an update from 2012$ to 2023$ using the Chemical Engineering Plant Cost Index (CEPCI).

Courtney Kerwin,
Director, Information Engagement Division.

[FR Doc. 2025-20054 Filed 11-17-25; 8:45 am]

BILLING CODE 6560-50-P